ENVIRONMENTAL PROTECTION AGENCY

40 CFR Part 69

[GU02-02; FRL-7433-4]

Clean Air Act Interim Approval of the Alternate Permit Program; Territory of Guam

AGENCY: Environmental Protection Agency (EPA).

ACTION: Proposed rule.

SUMMARY: EPA is proposing to grant interim approval of the alternate permit program submitted by the Territory of Guam (Guam). In EPA's November 13, 1996 direct final rule, EPA granted Guam, as well as owners and operators of certain sources within Guam, an exemption from title V requirements on the condition that Guam promulgate and administer an approved alternative permit program. EPA granted these conditional exemptions under the authority of section 325 of the Clean Air Act (Act). Interim approval of Guam's alternate permit program will allow sources to be permitted under an approved alternate permit program while also requiring Guam to make additional submissions to fulfill all of the requirements of the conditional exemption.

In the rules and regulations section of this Federal Register, we are granting interim approval of these local rules as Guam's alternate permit program in a direct final action without prior proposal because we believe this action is not controversial and do not anticipate adverse comment. A detailed rationale for this approval is set forth in the direct final rule. If we do not receive adverse comments, no further activity is planned. If EPA receives adverse comments, however, we will publish a timely withdrawal of the direct final action and address the comments in a subsequent final action based on this proposed rule. We will not open a second comment period, so anyone interested in commenting should do so at this time.

DATES: Any comments on this proposal must arrive by March 10, 2003.

ADDRESSES: Mail comments to Gerardo Rios, Chief of the Permits Office (AIR-3), U.S. Environmental Protection Agency, Region IX, 75 Hawthorne Street, San Francisco, CA 94105-3901. Copies of the submitted program and other supporting information used in evaluating the alternate permit program are available for inspection during normal business hours at the following location: Pacific Insular Area Program, U.S. EPA-Region IX (CMD-5), 75 Hawthorne Street, San Francisco, California 94105.

FOR FURTHER INFORMATION CONTACT: Ben Machol, EPA Region IX, at (415) 972-3770, (Machol.Ben@epa.gov), Pacific Insular Area Program, or Robert Baker, at (415) 972-3979, (Baker.Robert@epa.gov) Permits Office, Air Division, at the EPA-Region IX address listed above.

SUPPLEMENTARY INFORMATION: See the information provided in the direct final rule of the same title which is located under the rules and regulations section of this Federal Register.

Dated: December 17, 2002.
Alexis Strauss,
Acting Regional Administrator, Region IX.

[FR Doc. 03-120 Filed 1-8-03; 8:45 am]

BILLING CODE 6560-50-P